DEPARTMENT OF COMMERCE

National Oceanic and Atmospheric Administration

Agency Information Collection Activities; Submission to the Office of Management and Budget (OMB) for Review and Approval; Comment Request; Alaska Pacific Halibut Fisheries: Subsistence

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 6, 2020 (85 FR 13139) during a 60-day comment period. This notice allows for an additional 30 days for public comments.

Agency: National Oceanic and Atmospheric Administration (NOAA).

Title: Alaska Pacific Halibut Fisheries: Subsistence.

OMB Control Number: 0648-0512.

Form Number(s): None.

Type of Request: Regular submission (revision and extension of a current information collection).

Number of Respondents: 6,293.

Average Hours per Response: Application for Subsistence Halibut Registration Certificates: Rural Residents and Alaska Native Tribal Members—10 minutes, Alaska Native Tribe—30 minutes; Subsistence Halibut Special Permit applications, 30 minutes; Harvest logs, 30 minutes; Appeal for permit denial, 4 hours; Gear marking, 15 minutes.

Total Annual Burden Hours: 1,340 hours.

Needs and Uses: The information being collected is necessary for National Marine Fisheries Service (NMFS) Alaska Region to manage the Alaska Subsistence Halibut Program. This program is intended to allow eligible persons to practice the long-term customary and traditional harvest of Pacific halibut for food in a non-commercial manner. This program provides NMFS the opportunity to learn more about the subsistence halibut fishery and enhance estimates of subsistence removals for stock assessment purposes. This information collection contains the forms used by participants in the subsistence halibut fishery to apply for Subsistence Halibut Registration Certificates, apply for special use permits, and submit harvest information for special use permits. This information collection contains two collections for which no forms are used: The appeals process for denied permits and subsistence fishing gear requirements.

This collection is revised to separate the data for the three applications for Subsistence Halibut Registration Certificates (SHARCs). Minor, non-regulatory changes have been made to the SHARC applications to increase clarity. A missing field has been added to the Application for Subsistence Halibut Registration Certificate (SHARC) Alaska Native Tribe.

Affected Public: Individuals or households; State, Local, or Tribal government.

Frequency: On Occasion; Annually.

Respondent's Obligation: Required to Obtain or Retain Benefits.

Legal Authority: Northern Pacific Halibut Act of 1982 (16 U.S.C. 773c).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0512.

Sheleen Dumas,
Department PRA Clearance Officer, Office of the Chief Information Officer, Commerce Department.

[FR Doc. 2020-16548 Filed 7-29-20; 8:45 am]

BILLING CODE 3510-22-P